NATIONAL AERONAUTICS AND SPACE ADMINISTRATION

[Notice 05-046]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: March 17, 2005.

FOR FURTHER INFORMATION CONTACT: Robert M. Padilla, Patent Counsel, Ames Research Center, Code 202A-4, Moffett Field, CA 94035-1000; telephone (650) 604-5104; fax (650) 604-2767.

NASA Case No. ARC-15177-1: Simplified Microarray Procedure;

NASA Case No. ARC-ARC 15198-1: Coupled Self-Assembly of Polymers and Proteins To Form Novel Hybrid Materials;

NASA Case No. ARC-15314-1: Control of Carbon Nanotube Density and Tower Height in an Array;

NASA Case No. ARC-15404-1: Increased Alignment in Carbon Nanotube Growth;

NASA Case No. ARC-15062-1: Carbon Nanostructure-Based Electrodes for Electrical Stimulation and Recording.

Dated: March 10, 2005.
Keith T. Sefton,
Deputy General Counsel, Administration and Management.

[FR Doc. 05-5250 Filed 3-16-05; 8:45 am]

BILLING CODE 7510-13-P